DEPARTMENT OF HOMELAND SECURITY

Federal Emergency Management Agency

[Docket ID: FEMA-2021-0013; OMB No. 1660-0002]

Agency Information Collection Activities: Proposed Collection; Comment Request; Disaster Assistance Registration

AGENCY: Federal Emergency Management Agency, Department of Homeland Security.

ACTION: 60-Day notice of renewal and request for comments.

SUMMARY: The Federal Emergency Management Agency (FEMA), as part of its continuing effort to reduce paperwork and respondent burden, invites the general public to take this opportunity to comment on an extension, without change, of a currently approved information collection. In accordance with the Paperwork Reduction Act of 1995, this notice seeks comments concerning Disaster Assistance Registration, COVID-19 Funeral Assistance Registration, and Disaster Assistance Individuals and Households Program (IHP) Occupancy & Ownership Documentation.

DATES: Comments must be submitted on or before January 4, 2022.

ADDRESSES: Please submit comments at www.regulations.gov under Docket ID FEMA-2021-0013. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Brian Thompson, Supervisory Program Specialist, FEMA, Recovery Directorate at 540-686-3602 or Brian.Thompson6@fema.dhs.gov. You may contact the Information Management Division for copies of the proposed collection of information at email address: FEMA-Information-Collections-Management@fema.dhs.gov.

SUPPLEMENTARY INFORMATION: The Robert T. Stafford Disaster Relief and Emergency Assistance Act (Pub. L. 93-288) (the Stafford Act), as amended, is the legal basis for FEMA to provide financial assistance and services to individuals who apply for disaster assistance benefits in the event of a federally-declared disaster. Regulations in Title 44 of the Code of Federal Regulations, Subpart D, “Federal Assistance to Individuals and Households,” implement the policy and procedures set forth in section 408 of the Stafford Act. This program provides financial assistance and, if necessary, direct assistance to eligible individuals and households who, as a direct result of a major disaster, have necessary expenses and serious needs that are unable to be met through other means. Individuals and households may apply for assistance (Registration Intake) under the Individuals and Households Program (IHP) in person, via telephone, or internet. FEMA provides financial assistance under the Other Needs Assistance provision of the IHP to individuals or households affected by a major disaster to meet disaster-related funeral expenses under Section 408(e)(1) of the Robert T. Stafford Disaster Relief and Emergency Assistance Act (Stafford Act), Public Law 93-288, as amended.

Historically, the agency has utilized a combination of public and commercial validation of ownership and or occupancy, which impacts eligibility for Housing Assistance and some forms of Other Needs Assistance. This update applies to the proposed expansion of the acceptable documentation applicants can submit to FEMA to verify the occupancy and/or ownership of their primary residence and establish eligibility for disaster assistance.

Collection of Information

Title: Disaster Assistance Registration.

Type of Information Collection: Extension, without change, of a currently approved information collection number.

OMB Number: 1660-0002.

FEMA Forms: FEMA Form FF-104-FY-21-123 (formerly 009-0-1T (English)), Tele-Registration, Disaster Assistance Registration; FEMA Form FF-104-FY-21-123-A (formerly 009-0-1T (Spanish)), Tele-Registration, Registro Para Asistencia De Desatre; FEMA Form FF-104-FY-21-123-COVID-FA (formerly 009-0-1T-COVID-FA (English)), Tele-Registration, COVID-19 Funeral Assistance; FEMA Form FF-104-FY-21-125 (formerly 009-0-1Int (English)), internet, Disaster Assistance Registration; FEMA Form FF-104-FY-21-125-A (formerly 009-0-2Int (Spanish)), internet, Registro Para Asistencia De Desastre; FEMA Form FF-104-FY-21-122 (formerly 009-0-1 (English)), Paper Application/Disaster Assistance Registration; FEMA Form FF-104-FY-21-122-A (formerly 009-0-2 (Spanish)), Solicitud en Papel/Registro Para Asistencia De Desastre; FEMA Form FF-104-FY-21-128 (formerly 009-0-3 (English)), Declaration and Release; FEMA Form FF-104-FY-21-128-A (formerly 009-0-4 (Spanish)), Declaración Y Autorización; FEMA Form FF-104-FY-21-127 (formerly 009-0-5 (English)), Manufactured Housing Unit Revocable License and Receipt for Government Property; FEMA Form FF-104-FY-21-127-A (formerly 009-0-6 (Spanish)), Las Casas Manufacturadas Unidad Licencia Revocable y Recibo de la Propiedad del Gobierno; Requests for Information (RFI)

Abstract: The forms in this collection are used to obtain pertinent information to provide financial assistance, and if necessary, direct assistance to eligible individuals and households who, as a direct result of a disaster or emergency, have uninsured or under-insured, necessary or serious expenses they are unable to meet. This extension, without change, will also support the continued ability to provide COVID-19 Funeral Assistance to individuals who are responsible for a deceased individual's funeral expenses and the expansion of the acceptable documentation applicants can submit to FEMA to verify the occupancy and/or ownership of their primary residence and establish eligibility for disaster assistance.

Affected Public: Individuals or Households.

Estimated Number of Respondents: 2,043,134.

Estimated Number of Responses: 2,043,134.

Estimated Total Annual Burden Hours: 642,031.

Estimated Total Annual Respondent Cost: $25,199,717.

Estimated Respondents' Operation and Maintenance Costs: $0.

Estimated Respondents' Capital and Start-Up Costs: $0.

Estimated Total Annual Cost to the Federal Government: $20,525,700.

Comments

Comments may be submitted as indicated in the ADDRESS caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting Branch Chief, Records Management Branch, Office of the Chief Administrative Officer, Mission Support, Federal Emergency Management Agency, Department of Homeland Security.

[FR Doc. 2021-24286 Filed 11-4-21; 8:45 am]

BILLING CODE 9111-23-P